DEPARTMENT OF THE INTERIOR

National Park Service

[N6508; NPS-WASO-NAGPRA-NPS0041053; PPWOCRADN0-PCU00RP14.R50000]

Notice of Intended Repatriation: Denver Art Museum, Denver, CO

AGENCY: National Park Service, Interior.

ACTION: Notice.

SUMMARY: In accordance with the Native American Graves Protection and Repatriation Act (NAGPRA), the Denver Art Museum intends to repatriate certain cultural items that meet the definition of sacred objects and that have a cultural affiliation with the Indian Tribes or Native Hawaiian organizations in this notice.

DATES: Repatriation of the cultural items in this notice may occur on or after October 14, 2025.

ADDRESSES: Send additional, written requests for repatriation of the cultural items in this notice to Jennifer (Jennie) Trujillo, Denver Art Museum, 100 W 14th Avenue Parkway, Denver, CO 80204, email jtrujillo@denverartmuseum.org.

SUPPLEMENTARY INFORMATION: This notice is published as part of the National Park Service's administrative responsibilities under NAGPRA. The determinations in this notice are the sole responsibility of the Denver Art Museum, and additional information on the determinations in this notice, including the results of consultation, can be found in the summary or related records. The National Park Service is not responsible for the determinations in this notice.

Abstract of Information Available

A total of two cultural items have been requested for repatriation. The two sacred objects are wooden Prayer Sticks. In 1960, the museum purchased a single Prayer Stick from Willis Tilton of Topeka, Kansas. The object was identified at the time as a “typical prayer stick of the Kennekuk Church, ca. 1820.” According to museum records, it was originally collected as part of a larger group of Prayer Sticks by Floyd Schultz, a Clay Center, Kansas businessman and civic leader, who was also an amateur archeologist and ethnologist (catalog #E91D). Schultz described items E91A-F in his records as “Prayer sticks. Kickapoo. Obtained from Mae Shoptese, a Potawatomi Indian woman.” A second Prayer Stick was donated to the museum in 1985 by Dr. Charles J. Norton of Denver, Colorado. Museum records indicate that this Prayer Stick was purchased by Norton from Pat Read, an art dealer based in Lawrence, Kansas, around 1959-61. Consultation with representatives of the Kickapoo Tribe has confirmed that both objects are Prayer Sticks from the Kennekuk Church, which is located exclusively on the Kickapoo Reservation in Kansas. Based on tribal consultation and a review of museum records, the Denver Art Museum has determined that these Prayer Sticks are ceremonial objects used by members of the Kennekuk Church in religious practices. They continue to hold active significance in the church's present-day services. The inscriptions on the sticks contain prayers specific to the Kennekuk religion and possess spiritual meaning for all members of the church. According to church tradition, these Prayer Sticks are intended either to remain with the Kennekuk Church or to be used in burial services. If not interred with individual members, the sticks are passed along to other church members. As such, they are considered inalienable and should not have left the community.

Determinations

The Denver Art Museum has determined that:

• The two sacred objects described in this notice are specific ceremonial objects needed by a traditional Native American religious leader for present-day adherents to practice traditional Native American religion, according to the Native American traditional knowledge of a lineal descendant, Indian Tribe, or Native Hawaiian organization.

• There is a connection between the cultural items described in this notice and the Kickapoo Tribe of Indians of the Kickapoo Reservation in Kansas.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 14, 2025. If competing requests for repatriation are received, the Denver Art Museum must determine the most appropriate requestor prior to repatriation. Requests for joint repatriation of the cultural items are considered a single request and not competing requests. The Denver Art Museum is responsible for sending a copy of this notice to the Indian Tribes and Native Hawaiian organizations identified in this notice and to any other consulting parties.

Authority: Native American Graves Protection and Repatriation Act, 25 U.S.C. 3004 and the implementing regulations, 43 CFR 10.9.

Dated: August 29, 2025.
Melanie O'Brien,
Manager, National NAGPRA Program.

[FR Doc. 2025-17635 Filed 9-11-25; 8:45 am]

BILLING CODE 4312-52-P